DEPARTMENT OF AGRICULTURE

Grain Inspection, Packers and Stockyards Administration

Designation for the Maryland, New Jersey, and New York Areas

AGENCY: Grain Inspection, Packers and Stockyards Administration, USDA.

ACTION: Notice.

SUMMARY: We are announcing designation of the following organizations to provide official services under the United States Grain Standards Act, as amended (USGSA): Maryland Department of Agriculture (Maryland); and D. R. Schaal Agency, Inc. (Schaal).

DATES: Effective June 1, 2008.

ADDRESSES: USDA, GIPSA, Karen Guagliardo, Chief, Review Branch, Compliance Division, STOP 3604, Room 1647-S, 1400 Independence Avenue, SW., Washington, DC 20250-3604.

FOR FURTHER INFORMATION CONTACT: Karen Guagliardo at 202-720-7312, e-mail Karen.W.Guagliardo@usda.gov.

Read Applications: All applications will be available for public inspection at the office above during regular business hours (7 CFR 1.27(b)).

SUPPLEMENTARY INFORMATION: In the December 5, 2007, Federal Register (72 FR 68555), we requested applications for designation to provide official services in the unassigned geographic area of Maryland, New Jersey, and New York. Applications were due by January 4, 2008.

There were four applicants for designation to provide official services:

• Maryland Department of Agriculture (Maryland) applied for Maryland. Maryland is not currently designated.

• D. R. Schaal Agency, Inc. (Schaal) applied for New Jersey and New York.

• Kankakee Grain Inspection, Inc. (Kankakee) applied for Maryland, New Jersey, and New York.

• Mid-Iowa Grain Inspection, Inc. (Mid-Iowa) applied for Maryland, New Jersey and New York.

In the February 15, 2008, Federal Register (73 FR 8851), we requested comments on the applications for designation to provide official services in Maryland, New Jersey, and New York. Comments were due by March 17, 2008. GIPSA received no comments.

We evaluated all available information regarding the designation criteria in section 7(f)(l) of USGSA (7 U.S.C. 79 (f)) and determined that Maryland and Schaal are best able to provide official services in the geographic areas specified in the December 5, 2007, Federal Register, for which they applied.

Maryland is designated for the entire State of Maryland, except those export port locations served by GIPSA, effective June 1, 2008, and terminating June 30, 2010.

Effective June 1, 2008, Schaal's present geographic area is amended to include the entire States of New Jersey and New York, except those export port locations served by GIPSA. Schaal's current designation to provide official services terminates September 30, 2010.

Interested persons may obtain official services by calling the telephone numbers listed below.

Official agency | Headquarters location and telephone | Designation start-end
Maryland | Annapolis, MD 410-841-5769 | 6/1/2008-6/30/2010
Schaal | Belmond, IA 641-444-3122 | 6/1/2008-9/30/2010
| Additional Location: Albert Lea, MN

Section 7(f)(1) of the USGSA, authorizes GIPSA's Administrator to designate a qualified applicant to provide official services in a specified area after determining that the applicant is better able than any other applicant to provide such official services (7 U.S.C. 79(f)(1)).

Section 7(g)(1) of USGSA provides that designations of official agencies will terminate not later than three years and may be renewed according to the criteria and procedures prescribed in section 7(f) of USGSA.

Authority: 7 U.S.C. 71-87k.

James E. Link,
Administrator, Grain Inspection, Packers and Stockyards Administration.

[FR Doc. E8-9324 Filed 4-28-08; 8:45 am]

BILLING CODE 3410-KD-P